NATIONAL AERONAUTICS AND SPACE ADMINISTRATION

[Notice (18-072)]

Notice of Intent To Grant Exclusive Term License

AGENCY: National Aeronautics and Space Administration.

ACTION: Notice of intent to grant an exclusive term license.

SUMMARY: NASA hereby gives notice of its intent to grant an exclusive term license in the United States to practice the invention described and claimed in U.S. Patent No. 9,749,342 entitled, “System and Method for Detecting Unauthorized Device Access by Comparing Multiple Independent Spatial-Time Data Sets from Other Devices” to Equator Corporation, having its principal place of business in Stafford, VA.

DATES: The prospective exclusive license may be granted unless NASA receives written objections, including evidence and argument October 17, 2018, that establish that the grant of the license would not be consistent with the requirements regarding the licensing of federally owned inventions as set forth in the Bayh-Dole Act and implementing regulations. Competing applications completed and received by NASA no later than October 17, 2018 will also be treated as objections to the grant of the contemplated exclusive license. Objections submitted in response to this notice will not be made available to the public for inspection and, to the extent permitted by law, will not be released under the Freedom of Information Act.

ADDRESSES: Objections relating to the prospective license may be submitted to Patent Counsel, Bryan A. Geurts, Goddard Space Flight Center, 8800 Greenbelt Road, M/S 140.1, Greenbelt, MD 20771. Phone (301) 286-7351. Facsimile (301) 286-9502.

FOR FURTHER INFORMATION CONTACT: Dennis Small, Innovative Partnerships Program Office, Goddard Space Flight Center, 8800 Greenbelt Road, M/S 102.0, Greenbelt, MD 20771. Phone (301) 286-7960.

SUPPLEMENTARY INFORMATION: This notice of intent to grant an exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark Dvorscak,
Agency Counsel for Intellectual Property.

[FR Doc. 2018-21428 Filed 10-1-18; 8:45 am]

BILLING CODE 7510-13-P